DEPARTMENT OF HEALTH AND HUMAN SERVICES

National Institutes of Health

National Heart, Lung, and Blood Institute; Amended Notice of Meeting

Notice is hereby given of a change in the meeting of the National Asthma Education Prevention Program Coordinating Committee, which was published in the Federal Register on April 19, 2019, 84 FR16683.

Date, Time, and Place remain the same. This notice is amended to update the website that will be providing the meeting information. The website is: https://www.nhlbi.nih.gov/advisory-and-peer-review-committees/national-asthma-education-and-prevention-program-coordinating.

The meeting is open to the public.

Dated: June 11, 2019.
Ronald J. Livingston, Jr.,
Program Analyst, Office of Federal Advisory Committee Policy.

[FR Doc. 2019-12711 Filed 6-14-19; 8:45 am]

BILLING CODE 4140-01-P